DEPARTMENT OF HOMELAND SECURITY

Coast Guard

33 CFR Part 165

[CGD09-03-241]

RIN 1625-AA11

Regulated Navigation Area; Reporting Requirements for Barges Loaded With Certain Dangerous Cargoes, Illinois Waterway System Within the Ninth Coast Guard District

AGENCY: Coast Guard, DHS.

ACTION: Interim final rule; notice of approval of revised collection of information.

SUMMARY: On October 3, 2003, the Coast Guard published an interim final rule in the Federal Register that established a regulated navigation area (RNA) within all portions of the Illinois Waterway System located in the Ninth Coast Guard District and contained reporting requirements for barges loaded with certain dangerous cargoes. This document provides notice that the Office of Management and Budget has approved the revised collection of information contained in that interim rule.

DATES: OMB approved revised collection of information 1625-1505 on November 3, 2003.

FOR FURTHER INFORMATION CONTACT: For information regarding this document, or if you have questions on viewing or submitting material to the docket, write or call Commander (CDR) Michael Gardiner or Lieutenant (LT) Matthew Colmer, Project Managers for the Ninth Coast Guard District Commander, 1240 East Ninth Street, Cleveland, Ohio 44199-2060, telephone (216) 902-6059.

SUPPLEMENTARY INFORMATION: On October 6, 2003, the Coast Guard published an interim final rule entitled “Regulated Navigation Area; Reporting Requirements for Barges Loaded with Certain Dangerous Cargoes, Illinois Waterway System Within the Ninth Coast Guard District” in the Federal Register (68 FR 57616). In the preamble of that interim rule, we stated that we would publish a separate notice when and if the Office of Management and Budget (OMB) approved the revised collection of information (1625-1505) contained in the rule (68 FR 57621). On November 3, 2003, OMB announced that they had approved this revised collection of information.

Dated: December 15, 2003.
Ronald F. Silva,
Rear Admiral, U.S. Coast Guard, Commander, Ninth Coast Guard District.

[FR Doc. 03-31624 Filed 12-23-03; 8:45 am]

BILLING CODE 4910-15-P